DEPARTMENT OF COMMERCE

National Oceanic and Atmospheric Administration

50 CFR Part 679

[Docket No. 250312-0036, RTID 0648-XF117]

Fisheries of the Exclusive Economic Zone Off Alaska; Reallocation of Pacific Cod in the Bering Sea and Aleutian Islands Management Area

AGENCY: National Marine Fisheries Service (NMFS), National Oceanic and Atmospheric Administration (NOAA), Commerce.

ACTION: Temporary rule; reallocation.

SUMMARY: NMFS is reallocating the projected unused amount of Pacific cod from vessels using jig gear, trawl catcher vessels, and catcher vessels greater than or equal to 60 feet (18.3 meters (m)) length overall (LOA) using hook-and-line gear to catcher vessels less than 60 feet (18.3 m) LOA using hook-and-line or pot gear in the Bering Sea and Aleutian Islands management area (BSAI). This action is necessary to allow the 2025 total allowable catch (TAC) of Pacific cod to be harvested.

DATES: Effective August 11, 2025, through 2400 hours, Alaska local time (A.l.t.), December 31, 2025.

FOR FURTHER INFORMATION CONTACT: Andrew Olson, 907-206-5813.

SUPPLEMENTARY INFORMATION: NMFS manages the groundfish fishery in the BSAI according to the Fishery Management Plan for Groundfish of the Bering Sea and Aleutian Islands (FMP) prepared and recommended by the North Pacific Fishery Management Council under authority of the Magnuson-Stevens Fishery Conservation and Management Act (Magnuson-Stevens Act). Regulations governing fishing by U.S. vessels in accordance with the FMP appear at subpart H of 50 CFR part 600 and 50 CFR part 679.

The 2025 Pacific cod TAC specified for trawl catcher vessels in the BSAI is 28,083 metric tons (mt) as established by the final 2025 and 2026 harvest specifications for groundfish in the BSAI (90 FR 12640, March 18, 2025). This TAC is further allocated to the Pacific Cod Trawl Cooperative program (PCTC) A and B seasons, the incidental catch allowance (ICA) for A and B seasons allocated to catcher vessels using trawl gear participating in groundfish other than the PCTC Program, and the limited access trawl catcher vessel C season under §§ 679.20(a)(7)(iv)(A) and 679.131(b). As established by the final 2025 and 2026 harvest specifications for groundfish in the BSAI (90 FR 12640, March 18, 2025), the PCTC Program A and B season allocations, A and B season ICA, and the limited access trawl catcher vessel sector C season allocation are as follows; for the PCTC Program, 19,281 mt is apportioned to the A season (January 20-April 1), and 2,389 mt is apportioned to the B season (April 1-June 10); for the ICA, 1,500 mt is apportioned in the A season, and 700 mt is apportioned in the B season; Any unused PCTC TAC and ICA in the A season rolls over into the B season under §§ 679.131(b)(4)(i) and 679.20(a)(7)(iv)(B). For the limited access trawl catcher vessel sector 4,212 mt is apportioned to the C season (June 10-November 1).

The Administrator, Alaska Region, NMFS, (Regional Administrator) has determined that during the A season, 696 mt of Pacific cod allocated to the PCTC Program and 81 mt of Pacific cod allocated as ICA for catcher vessels using trawl gear participating in groundfish other than the PCTC Program were unharvested and rolled into B season. This resulted in an increase to the B season allocations of Pacific cod to 3,085 mt for the PCTC Program and 781 mt for the ICA. Of this amount, NMFS has determined that 2,668 mt of Pacific cod allocated to the PCTC Program and 608 mt of Pacific cod allocated to the ICA for catcher vessels using trawl gear participating in groundfish other than the PCTC Program will not be harvested in the B season because B season closed on June 10. Therefore, in accordance with § 679.131(g), NMFS reallocates 2,668 mt of Pacific cod for the PCTC Program and 608 mt of the ICA to the limited access trawl catcher vessel sector C season, which increases this sector's apportionment to 7,488 mt. As explained below, NMFS is further reallocating 1,000 mt from the limited access trawl catcher vessel sector's C season apportionment (7,488 mt) to catcher vessels less than 60 feet (18.3 m) LOA using hook-and-line or pot gear based on a determination that the trawl limited access sector will be unable to harvest all of the Pacific cod reallocated to that sector during the C season. The limited access trawl catcher vessel sector C season apportionment is therefore 6,488 mt.

The 2025 Pacific cod TAC specified for trawl catcher vessels in the BSAI is 28,083 mt as established by the final 2025 and 2026 harvest specifications for groundfish in the BSAI (90 FR 12640, March 18, 2025).

The 2025 Pacific cod TAC specified for vessels using jig gear in the BSAI is 779 mt as established by the final 2025 and 2026 harvest specifications for groundfish in the BSAI (90 FR 12640, March 18, 2025) and reallocation (90 FR 13704, March 26, 2025).

The 2025 Pacific cod TAC specified for catcher vessels greater than or equal to 60 feet (18.3 m) LOA using hook-and-line gear in the BSAI is 252 mt as established by the final 2025 and 2026 harvest specifications for groundfish in the BSAI (90 FR 12640, March 18, 2025).

The 2025 Pacific cod TAC specified for catcher vessels less than 60 feet (18.3 m) LOA using hook-and-line or pot gear in the BSAI is 3,525 mt as established by the final 2025 and 2026 harvest specifications for groundfish in the BSAI (90 FR 12640, March 18, 2025) and reallocation (90 FR 13704, March 26, 2025).

The Administrator, Alaska Region, NMFS, (Regional Administrator) has determined that trawl catcher vessels will not be able to harvest 1,000 mt of the 2025 Pacific cod TAC allocated to those vessels under §§ 679.20(a)(7)(ii)(A)(9) and 679.131(g), jig vessels will not be able to harvest 729 mt of the 2025 Pacific cod TAC allocated to those vessels under § 679.20(a)(7)(ii)(A)(1), and catcher vessels greater than or equal to 60 feet (18.3 m) LOA using hook-and-line gear will not be able to harvest 242 mt of the 2025 Pacific cod TAC allocated to those vessels under § 679.20(a)(7)(ii)(A)(3).

Therefore, in accordance with § 679.20(a)(7)(iii)(A), NMFS reallocates 1,000 mt of Pacific cod from trawl catcher vessels to the annual amount specified for catcher vessels less than 60 feet (18.3 m) LOA using hook-and-line or pot gear. Also, in accordance with §§ 679.20(a)(7)(iv)(C) and 679.20(a)(7)(iii)(A), NMFS reallocates 729 mt of Pacific cod from the jig vessels and 242 mt from the catcher vessels greater than or equal to 60 feet (18.3 m) LOA using hook-and-line gear to the annual amount specified for catcher vessels less than 60 feet (18.3 m) LOA using hook-and-line or pot gear. NMFS has determined that catcher vessels less than 60 feet (18.3 m) LOA using hook-and-line or pot gear have the capability to harvest the reallocated amounts of Pacific cod during the remainder of the fishing year.

The harvest specifications for 2025 Pacific cod included in final 2025 and 2026 harvest specifications for groundfish in the BSAI (90 FR 12640, March 18, 2025) and reallocation (90 FR 13704, March 26, 2025) are revised as follows: 27,083 mt to trawl catcher vessels, 50 mt to vessels using jig gear, 10 mt to catcher vessels greater than or equal to 60 feet (18.3 m) LOA using hook-and-line gear, and 5,496 mt to catcher vessels less than 60 feet (18.3 m) LOA using hook-and-line or pot gear.

Classification

NMFS issues this action pursuant to section 305(d) of the Magnuson-Stevens Act. This action is required by 50 CFR part 679, which was issued pursuant to section 304(b) of the Magnuson-Stevens Act, and is exempt from review under Executive Order 12866.

Pursuant to 5 U.S.C. 553(b)(B), there is good cause to waive prior notice and an opportunity for public comment on this action, as notice and comment would be impracticable and contrary to the public interest. This requirement is impracticable and contrary to the public interest as it would prevent NMFS from responding to the most recent fisheries data in a timely fashion and would not allow for the full harvest of the Pacific cod TACs by the sector with harvesting capability. NMFS was unable to publish a notice providing time for public comment because the most recent, relevant data for Pacific cod harvest by those sectors harvesting Pacific cod, as well as the potential capability to harvest reallocated Pacific cod this fall, only became available as of August 8, 2025.

The Assistant Administrator for Fisheries, NOAA also finds good cause to waive the 30-day delay in the effective date of this action under 5 U.S.C. 553(d)(3). This finding is based upon the reasons provided above for waiver of prior notice and opportunity for public comment.

Authority: 16 U.S.C. 1801 et seq.

Dated: August 8, 2025.
Michael P. Ruccio,
Acting Director, Office of Sustainable Fisheries, National Marine Fisheries Service.

[FR Doc. 2025-15311 Filed 8-11-25; 8:45 am]

BILLING CODE 3510-22-P